DEPARTMENT OF HOUSING AND URBAN DEVELOPMENT

[Docket No. FR-7080-N-59]

30-Day Notice of Proposed Information Collection: Public Housing—Contracting With Resident-Owned Businesses; OMB Control No.: 2577-0161

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: January 17, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal by name and/or OMB Control Number and should be sent to: Colette Pollard, Reports Management Officer, REE, Department of Housing and Urban Development, 451 7th Street SW, Room 8210, Washington, DC 20410-5000; telephone 202-402-3577 (this is not a toll-free number) or email: PaperworkReductionActOffice@hud.gov.

FOR FURTHER INFORMATION CONTACT: Colette Pollard, Reports Management Officer, REE, Department of Housing and Urban Development, 451 7th Street SW, Washington, DC 20410; email; Colette.Pollard@hud.gov, telephone (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on September 18, 2024 at 89 FR 76500.

A. Overview of Information Collection

Title of Information Collection: Public Housing—Contracting with Resident-Owned Businesses.

OMB Control Number: 2577-0161.

Type of Request: Extension of previously approved collection.

Form Number: N/A.

Description of the need for the information and proposed use: PHAs that entered into contracts with resident-owned businesses prior to December 26, 2014, must comply with the requirements/procedures set forth in, 24 CFR 85.36(h), and 24 CFR 85.36(i). Contracts with resident-owned businesses entered into after December 26, 2014, must comply with 24 CFR part 963, 2 CFR 200.325, and 2 CFR 200.326 and other such contract terms that may be applicable to the procurement under the Department's regulations. These requirements include:

• Certified copies of any State, county, or municipal licenses that may be required of the business to engage in the type of business activity for which it was formed. Where applicable, the PHA must obtain a certified copy of its corporate charter or other organizational document that verifies that the business was properly formed in accordance with State law;

• Certification that shows the business is owned by residents, disclosure documents that indicate all owners of the business and each owner's percentage of the business along with sufficient evidence sufficient that demonstrates to the satisfaction of the PHA that the business has the ability to perform successfully under the terms and conditions of the proposed contract;

• Certification as to the number of contracts awarded, and the dollar amount of each contract award received, under the alternative procurement process; and

• Contract award documents, proof of bonding documents, independent cost estimates and comparable price analyses.

Members of affected public: Public Housing Agencies, and Applicable Resident Entrepreneurs Estimation of the total number of hours needed to prepare the information collection including number of respondents, frequency of response, and hours of response: Estimated number of respondents: 75. The calculation for burden hours is as follows: Calculation for number of respondents: 75 (estimated number of PHAs contracting with resident owned businesses) × 24 (number of hours for procurement process) = 1,800 total hours. The Department estimates that out of a total of 3,763 PHAs only 2 percent or 75 PHAs contract with resident owned business. This number is less than the previous request due to several PHAs choosing to leave the program, but the Department anticipates there may have been more business or contracting opportunities particularly during the pandemic.

Information collection | Number of respondents | Average number of reponses per respondent | Total annual responses | Burden hours per response | Total hours | Hourly cost | Total annual cost
OMB Control No. 2577-0161 | 75 | 1 | 75 | 24 | 1,800 | $30.95 | $55,710

The national average of PHA staff salary used is $64,590 per year obtained from https://www.ziprecruiter.com/Salaries/Public-Housing-Authority-Salary, or $30.95 per hour as computed using the 2,087-Hour Divisor. The calculation for costs is as follows: 75 PHAs × 24 hours = 1,800 hours × $30.95 = $55,710.

Status of the Proposed Information Collection: Meeting HUD Regulation requirements.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C.

Colette Pollard,
Department Reports Management Officer, Office of Policy Development and Research, Chief Data Officer.

[FR Doc. 2024-29905 Filed 12-17-24; 8:45 am]

BILLING CODE 4210-67-P